DEPARTMENT OF TRANSPORTATION

Office of the Secretary

Aviation Proceedings, Agreements Filed the Week Ending March 16, 2013

The following Agreements were filed with the Department of Transportation under the Sections 412 and 414 of the Federal Aviation Act, as amended (49 U.S.C. 1382 and 1384) and procedures governing proceedings to enforce these provisions. Answers may be filed within 21 days after the filing of the application.

Docket Number: DOT-OST-2013-0048.

Date Filed: March 11, 2013.

Parties: Members of the International Air Transport Association.

Subject: Resolution 787.

PSC Minutes 29 through 43—34th.

PSC held in Abu Dhabi on 18-19 October 2012.

Memorandum.

PSC/RESO/154 dated 4 January 2013.

Intended Effective Date: June 1, 2013.

Barbara J. Hairston,
Acting Program Manager, Docket Operations, Federal Register Liaison.

[FR Doc. 2013-07369 Filed 3-28-13; 8:45 am]

BILLING CODE 4910-9X-P